NATIONAL SCIENCE FOUNDATION

Advisory Committee for Social, Behavioral and Economic Sciences; Notice of Meeting

In accordance with the Federal Advisory Committee Act (Pub. L. 92- 463, as amended), the National Science Foundation (NSF) announces the following meeting:

Name and Committee Code: Advisory Committee for Social, Behavioral and Economic Sciences (#1171) (Virtual).

Date and Time: May 6-7, 2021; 12:00 p.m.-5:00 p.m. (EDT).

Place: NSF, 2415 Eisenhower Avenue, Alexandria, VA 22314. Virtual advisory committee meeting via Zoom. Advance registration is required: https://nsf.zoomgov.com/webinar/register/WN_XC6_1hyGRqGLVPiIjlsFwQ.

Type of Meeting: Open.

Contact Person: Dr. Deborah Olster, Office of the Assistant Director, Directorate for Social, Behavioral and Economic Sciences; National Science Foundation, 2415 Eisenhower Avenue, Alexandria, VA 22314; Telephone: (703) 292-8700.

Summary of Minutes: Will be available on SBE advisory committee website at: https://www.nsf.gov/sbe/advisory.jsp.

Purpose of Meeting: To provide advice and recommendations to the National Science Foundation on major goals and policies pertaining to Social, Behavioral and Economic Sciences Directorate (SBE) programs and activities.

Agenda Items

• Welcome, Introductions, Approval of Previous Advisory Committee (AC) Meeting Summary, Preview of Agenda

• Directorate for Social, Behavioral and Economic Sciences (SBE) Update

• SBE Contributions to Research, Development, and Equity

• Women, Minorities and Persons with Disabilities in Science and Engineering (2021 report)

• The Evidence Act and a National Secure Data Service

• Minerva Research Initiative

• Responding to Pandemics

• SBE Advisory Committee Subcommittee Reports

• Advisory Committee for Environmental Research and Education Update

• Meeting with NSF Leadership

• New AC Member Presentation

• Committee on Equal Opportunities in Science and Engineering Update

• NSF/SBE Funding Opportunities Update

• Wrap-up, Assignments and Closing Remarks

Dated: April 1, 2021.
Crystal Robinson,
Committee Management Officer.

[FR Doc. 2021-07072 Filed 4-5-21; 8:45 am]

BILLING CODE 7555-01-P